SMALL BUSINESS ADMINISTRATION

[Declaration of Disaster #3263]

State of Tennessee

Cheatham County and the contiguous counties of Davidson, Dickson, Montgomery, Robertson, and Williamson in the State of Tennessee constitute a disaster area due to damages caused by severe thunderstorms, tornadoes, and heavy rains that occurred May 23-31, 2000. Applications for loans for physical damage as a result of this disaster may be filed until the close of business on August 11, 2000 and for economic injury until the close of business on March 12, 2001 at the address listed below or other locally announced locations: U.S. Small Business Administration, Disaster Area 2 Office, One Baltimore Place, Suite 300, Atlanta, GA 30308.

The interest rates are:

| Percent
For Physical Damage:
HOMEOWNERS WITH CREDIT AVAILABLE ELSEWHERE | 7.375
HOMEOWNERS WITHOUT CREDIT AVAILABLE ELSEWHERE | 3.687
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE D4.000%

The numbers assigned to this disaster are 326306 for physical damage and 9H5300 for economic injury.

(Catalog of Federal Domestic Assistance Program Nos. 59002 and 59008)
Dated: June 12, 2000.
Aida Alvarez,
Administrator.

[FR Doc. 00-15422 Filed 6-16-00; 8:45 am]

BILLING CODE 8025-01-P